DEPARTMENT OF HEALTH AND HUMAN SERVICES

Centers for Disease Control and Prevention

National Center for Environmental Health/Agency for Toxic Substances and Disease Registry (NCEH/ATSDR); Notice of National Conversation on Public Health and Chemical Exposures Leadership Council Conference Call

Time and Date: 2:30 p.m.-4:30 p.m. EDT, Wednesday, April 14, 2010.

Location: Teleconference.

Status: The public is invited to listen to the meeting by phone, see “contact for additional information” below.

Purpose: This is the third meeting of the National Conversation on Public Health and Chemical Exposures Leadership Council, which is convened by RESOLVE, a non-profit independent facilitator. The National Conversation on Public Health and Chemical Exposures is a collaborative initiative supported by NCEH/ATSDR and through which many organizations and individuals are helping develop an action agenda for strengthening the nation's approach to protecting the public's health from harmful chemical exposures. The Leadership Council provides overall guidance to the National Conversation project and will be responsible for issuing the final action agenda. For additional information on the National Conversation on Public Health and Chemical Exposures, visit this Web site: http://www.atsdr.cdc.gov/nationalconversation/.

Meeting agenda: The call will include discussing (1) selection of a co-chair, (2) updates from work groups, and (3) the results of the first National Conversation web dialogue (scheduled for April 5-7, 2010).

Contact for Additional Information: If you would like to receive additional information on listening to the meeting by phone, please contact: nationalconversation@cdc.gov or Ben Gerhardstein at 770-488-3646.

Dated: March 26, 2010.
Tanja Popovic,
Chief Science Officer, Centers for Disease Control and Prevention.

[FR Doc. 2010-7356 Filed 3-31-10; 8:45 am]

BILLING CODE 4163-18-P